DEPARTMENT OF ENERGY

Federal Energy Regulatory Commission

Notice of Application for Amendment of License and Soliciting Comments, Motions To Intervene, and Protests

May 8, 2001.

Take notice that the following application has been filed with the Commission and is available for public inspection:

a. Application Type: Amend the project boundaries for the Middle Chattahoochee Hydroelectric Project.

b. Project No. 2177-045.

c. Dates Filed: April 18, 2001.

d. Applicant: Georgia Power Company.

e. Name of Project: Chattahoochee Hydroelectric Project.

f. Location: The Project is located on the Chattahoochee River, in Lee and Russell Counties Alabama, and in Harris and Muscogee Counties, Georgia.

g. Filed Pursuant to: 18 CFR 4.201.

h. Applicant Contact: Mike A. Phillips, Land Resources Supervisor, Georgia Power Company, Bin 10151, 241 Ralph McGill Boulevard, Atlanta, Georgia 03308-3374; (404) 506-2392.

i. FERC Contact: Any questions on the notice should be addressed to Robert Shaffer at (202) 208-0944 or by e-mail at Robert.Shaffer@ferc.fed.us.

j. Deadline for filing comments and/or motions: 30 Days from the issuance of this notice.

All documents (original and eight copies) should be filed with: David P. Boergers, Secretary, Federal Energy Regulatory Commission, 888 First Street, NE., Washington DC 20426. Comments, protests, and interventions may be filed electronically via the Internet in Lieu of paper. See, 18 CFR 385.2001(a)(1)(iii) and the instructions on the Commission's web site at http://www.ferc.fed.us/efi/doorbell.htm.

Please include the project number (P-2177-045) on any comments or motions filed.

k. Description of Filing: Georgia Power Company is proposing to revise the project boundary by sale of approximately 7.948 acres that is adjacent to Lake Oliver to Mr. Donald Peek.

l. Locations of the Application: A copy of the application is available for inspection and reproduction at the Commission's Public Reference Room, located at 888 First Street NW., Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

n. Comments, Protests, or Motions to Intervene—Anyone may submit comments, a protest, or a motion to intervene in accordance with the requirements of rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-11976 Filed 5-11-01; 8:45 am]

BILLING CODE 6717-01-M